DEPARTMENT OF AGRICULTURE

Office of Partnerships and Public Engagement

Notice of Request for Approval of a New Information Collection

AGENCY: Office of Partnerships and Public Engagement (OPPE), Department of Agriculture.

ACTION: Notice and request for comments.

SUMMARY: In accordance with the Paperwork Reduction Act of 1995 (44 U.S.C. Chapter 35), this notice announces the intention of the Office of Partnerships and Public Engagement to request review and approval for a new information collection for the Community of Faith and Opportunity initiative.

DATES: Comments on this notice must be received by no later than May 2, 2020, to be assured of consideration.

ADDRESSES: The U.S. Department of Agriculture invites interested persons to submit comments on this notice. Comments may be submitted by one of the following methods:

• Federal eRulemaking Portal: This website provides the ability to type short comments directly into the comment field on this web page or attach a file for lengthier comments. Go to http://www.regulations.gov. Follow the on-line instructions at that site for submitting comments.

• Mail, including CD-ROMs, etc.: Send to U.S. Department of Agriculture, Office of Partnerships and Public Engagement, Docket Clerk, 1400 Independence Ave. SW, Mailstop 0601, Room 517A, Washington, DC 20250-3700.

• Hand- or courier-delivered submittals: Deliver to 1400 Independence Ave. SW, Room 517A, Washington, DC 20250-3700. You may also send comments to the Desk Officer for Agriculture, Office of Information and Regulatory Affairs, Office of Management and Budget, Washington, DC 20503.

Instructions: All items submitted by mail or electronic mail must include the Agency name (Office of Partnerships and Public Engagement). Comments received in response to this notice will be made available for public inspection and posted without change, including any personal information, to http://www.regulations.gov.

For access to background documents or comments received, go to the Office of Partnerships and Public Engagement at 1400 Independence Ave. SW, Room 517-A, Washington, DC 20250-3700 between 8:00 a.m. and 4:30 p.m., Monday through Friday.

FOR FURTHER INFORMATION CONTACT: Contact Alex Cordova, Office of Partnerships and Public Engagement, U.S. Department of Agriculture, 1400 Independence Ave. SW, Washington, DC 20250 Telephone Number 202-802-0476 and Fax number 202-720-7704.

SUPPLEMENTARY INFORMATION:

Title: Community of Faith and Opportunity initiative.

OMB Number: New.

Expiration Date of Approval: Three years from approval date.

Type of Request: New information collection.

Abstract: Communities of Faith and Opportunity brings together local and community leadership to establish local prosperity councils. These councils are a bottom up, locally driven, partnership structure that assists in strengthening local capacity so that communities can develop investable projects to address their respective challenges and needs. Local prosperity councils provide additional information on their challenges, members of their council, as well as on going efforts on project implementation, to inform recommendations provided by USDA personnel. These recommendations are put together by USDA subject matter experts at headquarters and distributed to communities and USDA state office staff for implementation in the field. This combination of customer service, program delivery, and capacity building and technical assistance will ensure that a sustainable, bottom up, locally driven process is achieved that will move communities towards prosperity.

The Communities of Faith and Opportunity initiative seeks to better understand the challenges facing rural and underserved communities across the country, while also assisting them in building the local capacity needed to address the community challenges and needs. In order to accomplish this, communities are invited to participate in outreach summits, capacity building workshops, and if interested, to submit additional information to become a Community of Faith and Opportunity. The form captures information that will assist the USDA in providing robust, timely responses, customer service and program recommendations ensuring local needs are taken into account and setting up a community for long term success. The “Communities of Faith and Opportunity—Next Steps” form can be found at the following link: https://msudafvm.co1.qualtrics.com/jfe/form/SV_3CPN4ZzqzEGCHoF.

The information being collected requires the respondents to:

(1) Identify themselves, names, physical address, telephone number, email address.

(2) If applying as an entity, respondents are required to provide their company legal operating name, names and contact information of person(s) that will be the lead or key contact.

(3) Identify name and email addresses of local partners and collaborators to create a Local Prosperity Council.

(4) Determine 3-5 local challenges or projects that you would like to see addressed by USDA

(5) Describe local assets by identifying and describing community resources that are being leveraged to accomplish community goals.

(6) Describe on going implementation efforts in the community; including specific activities that community stakeholders have undertaken to address the challenges independently.

Estimate of Burden: Public reporting burden for this collection of information is estimated to average .75 hours per response.

Type of Respondents: Respondents on this form will potentially include—individuals, businesses, Not-for Profit organizations, Higher Education Institutions, Healthcare institutions State, Local, and Tribal governments; Community-based Organizations, etc.

Estimated Number of Respondents: 200.

Estimated Number of Responses: 200.

Estimated Number of Responses per Respondent: 1.

Estimated Total Annual Burden on Respondents: .75.

Comments are invited on: (1) Whether the proposed collection of information is necessary for the proper performance of the functions of the agency, including whether the information will have practical utility; (2) the accuracy of the agency's estimate of the burden of the proposed collection of information including the validity of the methodology and assumptions used; (3) ways to enhance the quality, utility, and clarity of the information to be collected; and (4) ways to minimize the burden of the collection of information on those who are to respond, including the use of appropriate automated, electronic, mechanical, or other technological collection techniques or other forms of information technology. Comments may be sent to the U.S. Department of Agriculture, Attn: Alex Cordova, 1400 Independence Ave. SW, Washington, DC 20250, mail stop 0601. All comments received will be available for public inspection during regular business hours at the same address.

All responses to this notice will be summarized and included in the request for OMB approval. All comments will become a matter of public record.

Riley Pagett,
Chief of Staff.

[FR Doc. 2020-04581 Filed 3-5-20; 8:45 am]

BILLING CODE P